DEPARTMENT OF AGRICULTURE

Animal and Plant Health Inspection Service

[Docket No. APHIS-2008-0141]

Availability of an Environmental Assessment and Finding of No Significant Impact for a Biological Control Agent for Arundo donax

AGENCY: Animal and Plant Health Inspection Service, USDA.

ACTION: Notice.

SUMMARY: We are advising the public that an environmental assessment and finding of no significant impact have been prepared by the Animal and Plant Health Inspection Service relative to the release of a wasp, Tetramesa romana, into the continental United States for use as a biological control agent to reduce the severity of Arundo donax infestations. Based on its finding of no significant impact, the Animal and Plant Health Inspection Service has determined that an environmental impact statement need not be prepared.

FOR FURTHER INFORMATION CONTACT: Dr. Carmen Soileau, Senior Entomologist, Evaluation and Permitting of Regulated Organisms and Soil, PPQ, APHIS, 4700 River Road Unit 133, Riverdale, MD 20737-1237; (301) 734-5302.

SUPPLEMENTARY INFORMATION:

Background

Arundo donax is a highly invasive, bamboo-like weed that was introduced to North America in the early 1500s for its fiber uses. It is among the fastest growing plants in the continental United States, making it a severe threat to riparian areas, where it causes erosion, damages bridges, alters channel morphology, increases costs for chemical and mechanical control along transportation corridors, and impedes law enforcement activities along international borders. Additionally, A. donax consumes excessive amounts of water, competing for water resources in arid regions where these resources are critical to the environment, agriculture, and municipal users.

The proposed biological control agent, Tetramesa romana, is a wasp in the insect family Eurytomidae. It has a widespread presence around the Mediterranean basin, from Turkey to Spain and Morocco, and was also found at one site in southern Africa and one site in China. Two populations of T. romana have recently been discovered near Santa Barbara, CA, and in Austin, TX. The establishment of T. romana in Texas indicates that the wasp has a moderate level of cold hardiness and is therefore expected to establish throughout the range of A. donax.

On March 6, 2009, we published in the Federal Register (74 FR 9779-9780, Docket No. APHIS-2008-0141) a notice ¹ in which we announced the availability, for public review and comment, of an environmental assessment (EA) that examined the potential environmental impacts associated with the proposed release of this biological control agent into the continental United States.

¹ To view the notice, environmental assessment, finding of no significant impact, and the comments we received, go to http://www.regulations.gov/fdmspublic/component/main?main=DocketDetail&d=APHIS-2008-0141.

We solicited comments on the EA for 30 days ending April 6, 2009. We received 10 comments by that date. A written response to all comments received on the EA can be found in appendix 3 of the final EA (see footnote 1).

In this document, we are advising the public of our finding of no significant impact (FONSI) regarding the release of a wasp, Tetramesa romana, into the continental United States for use as a biological control agent to reduce the severity of A. donax infestations. The finding, which is based on the EA, reflects our determination that release of this biological control agent will not have a significant impact on the quality of the human environment.

The EA and FONSI may be viewed on the Regulations.gov Web site (see footnote 1). Copies of the EA and FONSI are also available for public inspection at USDA, Room 1141, South Building, 14th Street and Independence Avenue, SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 1st day of May 2009.
Kevin Shea,
Acting Administrator, Animal and Plant Health Inspection Service.

[FR Doc. E9-10632 Filed 5-6-09; 8:45 am]

BILLING CODE 3410-34-P